DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 12, 2017. Address written comments to Statutory Import Programs Staff, Room 3720, U.S. Department of Commerce, Washington, DC 20230. Applications may be examined between 8:30 a.m. and 5:00 p.m. at the U.S. Department of Commerce in Room 3720.

Docket Number: 16-024. Applicant: The Hormel Institute, 801 16th Avenue NE., Austin, MN 55912. Instrument: Electron Microscope. Manufacturer: FEI Company, the Netherlands. Intended Use: The instrument will be used to study biological samples such as human and animal normal and cancer cells, as well as to study protein-protein interactions and protein-compounds interactions. Justification for Duty-Free Entry: There are no instruments of the same general category manufactured in the United States. Application accepted by Commissioner of Customs: March 17, 2017.

Docket Number: 16-025. Applicant: The Hormel Institute, 801 16th Avenue NE., Austin, MN 55912. Instrument: Electron Microscope. Manufacturer: FEI Company, Czech Republic. Intended Use: The instrument will be used to study biological samples such as human and animal normal and cancer cells, as well as to study protein-protein interactions and protein-compounds interactions. Justification for Duty-Free Entry: There are no instruments of the same general category manufactured in the United States. Application accepted by Commissioner of Customs: March 17, 2017.

Docket Number: 17-003. Applicant: Arizona State University, 550 E. Tyler Mall, PSF 470, Tempe, AZ 85287-1504. Instrument: Laser-lithography system for 3-dimensional microstructuring and nanostructuring. Manufacturer: Nanoscribe, Germany. Intended Use: The instrument will be used to develop new methods of determining the atomic structure of proteins, and to make movies of molecular machines at work. It is capable of fabricating structures as small as 0.2 microns on a side, which are not limited to a planar geometry, using nozzles whose overall size is a few millimeters, with finest detail of 0.5 microns. Justification for Duty-Free Entry: There are no instruments of the same general category manufactured in the United States. Application accepted by Commissioner of Customs: March 17, 2017.

Docket Number: 17-004. Applicant: Trustees of Tufts College, 200 Boston Avenue, Suite 2600, Medford, MA 02155-4284. Instrument: Microscopy Image Acquisition Unit. Manufacturer: Phaseview, France. Intended Use: The instrument will be used to produce 3D images of objects in regular light microscopy, for example, biological cells, the surface of teeth, and polymers. The unique and required features include an andor camera connected to piezo driving optical objective, 3-D imaging device that uses a liquid-crystal focusing technology and so-called Ray technology to record 3-D information in one shot, and very fast mechanical noise-free recording of 3-D images of surfaces and cells. Justification for Duty-Free Entry: There are no instruments of the same general category manufactured in the United States. Application accepted by Commissioner of Customs: April 3, 2017.

Docket Number: 17-005. Applicant: Boston University, 110 Cummington Mall, ENG 107, Boston, MA 02215. Instrument: Positioner for a prototype Schwarzchild Couder Telescope (pSCT). Manufacturer: DESY-DeutchesElektronen-Synchrotron, Germany. Intended Use: The instrument will be used in material science research, using a fiber laser to induce two-photon polymerization in the target material. Through sophisticated coordination of an X-Y stage and a galvo-scanner, a structure designed in a standard CAD tool can be transferred to a cube of photosensitive material in a matter of minutes. The instrument is capable of lateral feature sizes for 3D structures of less than 200 nm, and less than 150 nm for 2D structures. The instrument is able to fabricate structures up to 300 μm height with constant high resolution and quality independent of the structure height by means of a dip-in-laser lithography technique. Justification for Duty-Free Entry: There are no instruments of the same general category manufactured in the United States. Application accepted by Commissioner of Customs: April 24, 2017.

Docket Number: 17-006. Applicant: The Association of Universities for Research in Astronomy, 3665 Discovery Drive, Boulder, CO 80303. Instrument: M1 Cell Assembly. Manufacturer: Advanced Mechanical & Optical Systems, NA, Belgium. Intended Use: The instrument will be used to study the highly dynamic magnetic fields and plasmas throughout the solar atmosphere. It will provide the necessary means to support, shape and cool the DKIST primary mirror, without which the primary mirror would not meet the stringent performance characteristics for conducting the experiments. The instrument will be able to accurately adjust the M1 Mirror optical surface by applying arbitrary Zernike correction terms to correct for telescope errors in addition to polishing errors and M1 Cell Assembly induced errors. After optics correction, the total allowed M1 Mirror optical surface figure error from all sources other than polishing residuals shall be less than 45 nm RMS after subtraction of tip tilt and focus. Justification for Duty-Free Entry: There are no instruments of the same general category manufactured in the United States. Application accepted by Commissioner of Customs: April 24, 2017.

Docket Number: 17-007. Applicant: The Association of Universities for Research in Astronomy, 3665 Discovery Drive, Boulder, CO 80303. Instrument: Coating and Cleaning Equipment for the Daniel K. Inouye Solar Telescope. Manufacturer: Advanced Mechanical & Optical Systems, NA, Belgium. Intended Use: The instrument will be used to study the highly dynamic magnetic fields and plasmas throughout the solar atmosphere. The M1 Wash Platform shall be capable of capturing washing effluent and directing it into a containment system, which shall include pumping capacity to move the effluent from the containment system into AURA supplied containers, as well as protect effluent from contaminating the bottom surface of the M1 Mirror or any other surface. Justification for Duty-Free Entry: There are no instruments of the same general category manufactured in the United States. Application accepted by Commissioner of Customs: April 24, 2017.

Docket Number: 17-008. Applicant: UChicago Argonne, 9700 South Cass Avenue, Lemont, IL 60439. Instrument: Multiphoton 3D Lithography System. Manufacturer: Nanoscribe, Germany. Intended Use: The instrument will be used for rapid fabrication and prototyping of micro and nano sized parts by the means of novel technology, two-photon polymerization of UV-curable photoresists. The key and unique features of the instrument include the highest resolution (150 nanometers) among all commercially available 3D printers and ability to deposit a wide variety of materials template by transparent polymers. The high printing resolution enables sub-micron feature sizes and allows a design freedom for very complex parts with internal features otherwise impossible to produce. Justification for Duty-Free Entry: There are no instruments of the same general category manufactured in the United States. Application accepted by Commissioner of Customs: April 24, 2017.

Gregory W. Campbell,
Director, Subsidies Enforcement, Enforcement and Compliance.

[FR Doc. 2017-10401 Filed 5-19-17; 8:45 am]

BILLING CODE 3510-DS-P